TENNESSEE VALLEY AUTHORITY

Paperwork Reduction Act of 1995, as Amended by Public Law 104-13; Submission for OMB Review; Comment Request

AGENCY: Tennessee Valley Authority.

ACTION: Proposed Collection; comment request.

SUMMARY: The proposed information collection described below will be submitted to the Office of Management and Budget (OMB) for review, as required by the Paperwork Reduction Act of 1995 (44 U.S.C Chapter 35, as amended). The Tennessee Valley Authority is soliciting public comments on this proposed collection as provided by 5 CFR Section 1320.8(d)(1). Requests for information, including copies of the information collection proposed and supporting documentation, should be directed to the Agency Clearance Officer: Mark R. Winter, Tennessee Valley Authority, 1101 Market Street (MP 3C), Chattanooga, Tennessee 37402-2801; (423) 751-6004.

Comments should be sent to the Agency Clearance Officer no later than June 20, 2008.

SUPPLEMENTARY INFORMATION: Type of Request: Regular Submission; proposal for new data collection.

Title of Information Collection: Customer Satisfaction Survey of Recreation Users and Section 26a and Land Use Applicants.

Frequency of Use: On occasion.

Type of Affected Public: Individuals or households, business or other for-profit, non-profit institutions, farms, Federal Government, and State or local governments.

Small Business or Organizations Affected: Yes.

Estimated Number of Annual Responses: 5000.

Estimated Total Annual Burden Hours: 1000.

Estimated Average Burden Hours per Response: .2 hour.

Need for and Use of Information: TVA will conduct annual surveys to measure external customer satisfaction with TVA in a variety of areas including adequacy of recreation facilities on TVA land, performance of local TVA staff, and timeliness and quality of permitting services. Information gathered will be used to improve service delivery and relationships with customers and the public.

Steven A. Anderson,
Senior Manager, IT Planning & Governance, Information Services.

[FR Doc. E8-8555 Filed 4-18-08; 8:45 am]

BILLING CODE 8120-08-P